INTERNATIONAL TRADE COMMISSION

[Investigation No. 731-TA-1110 (Third Review)]

Sodium Hexametaphosphate From China; Determination

On the basis of the record ¹ developed in the subject five-year review, the United States International Trade Commission (“Commission”) determines, pursuant to the Tariff Act of 1930 (“the Act”), that revocation of the antidumping duty order on sodium hexametaphosphate from China would be likely to lead to continuation or recurrence of material injury to an industry in the United States within a reasonably foreseeable time.

¹ The record is defined in § 207.2(f) of the Commission's Rules of Practice and Procedure (19 CFR 207.2(f)).

Background

The Commission instituted this review on February 1 (89 FR 6547, February 1, 2024) and determined on May 6, 2024, that it would conduct an expedited review (89 FR 48443, June 6, 2024).

The Commission made this determination pursuant to section 751(c) of the Act (19 U.S.C. 1675(c)). It completed and filed its determination in this review on September 27, 2024. The views of the Commission are contained in USITC Publication 5549 (September 2024), entitled Sodium Hexametaphosphate from China: Investigation No. 731-TA-1110 (Third Review).

By order of the Commission.
Issued: September 27, 2024.
Lisa Barton,
Secretary to the Commission.

[FR Doc. 2024-22665 Filed 10-1-24; 8:45 am]

BILLING CODE 7020-02-P